DEPARTMENT OF COMMERCE

International Trade Administration

[Application No. 03-2A008]

Export Trade Certificate of Review

ACTION: Notice of issuance of an amended Export Trade Certificate of Review to California Pistachio Export Council (“CPEC”), Application No. 03-2A008.

SUMMARY: The U.S. Department of Commerce issued an amended Export Trade Certificate of Review to CPEC on November 1, 2016.

FOR FURTHER INFORMATION CONTACT: Joseph E. Flynn, Director, Office of Trade and Economic Analysis (“OTEA”), International Trade Administration, by telephone at (202) 482-5131 (this is not a toll-free number) or email at etca@trade.gov.

SUPPLEMENTARY INFORMATION: Title III of the Export Trading Company Act of 1982 (15 U.S.C. Sections 4001-21) authorizes the Secretary of Commerce to issue Export Trade Certificates of Review. The regulations implementing Title III are found at 15 CFR part 325 (2016). OTEA is issuing this notice pursuant to 15 CFR 325.6(b), which requires the Secretary of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate

CPEC's Export Trade Certificate of Review has been amended to:

1. Add the following companies as Members of the Certificate: ARO Pistachios, Inc., and Zymex Industries, Inc.

CPEC's amendment of its Export Trade Certificate of Review results in the following membership list:

(a) ARO Pistachios, Inc.

(b) Keenan Farms, Inc.

(c) Monarch Nut Company

(d) Nichols Pistachio

(e) Primex Farms, LLC

(f) Setton Pistachio of Terra Bella, Inc.

(g) Horizon Marketing Agency in Common Cooperative Inc.

(h) Zymex Industries, Inc.

Dated: November 9, 2016.
Amanda Reynolds,
Office of Trade and Economic Analysis, International Trade Administration.

[FR Doc. 2016-27475 Filed 11-15-16; 8:45 am]

BILLING CODE 3510-DR-P